FEDERAL MARITIME COMMISSION

Sunshine Act Meeting

TIME AND DATE: 10 a.m.—August 3, 2005.

Place: 800 North Capitol Street, NW., First Floor Hearing Room, Washington, DC

Status: Open.

Matters To Be Considered: 1. Non-Vessel-Operating Common Carrier Service Arrangements.

Contact Person For More Information: Bryant L. VanBrakle, Secretary, (202) 523-5725.

Bryant L. VanBrakle,
Secretary.

[FR Doc. 05-15104 Filed 7-26-05; 4:15 pm]

BILLING CODE 6730-01-M